OFFICE OF PERSONNEL MANAGEMENT

5 CFR Part 1001

RIN 3206-AJ 69

OPM Employee Responsibilities and Conduct

AGENCY: Office of Personnel Management.

ACTION: Proposed rulemaking.

SUMMARY: The Office of Personnel Management (OPM) is proposing a plain language rewrite of its regulations regarding the standards that govern OPM employee responsibilities and conduct as part of a broader review of OPM's regulations. The purpose of the revisions is to make the regulations more readable.

DATES: Comments must be submitted on or before January 21, 2003.

ADDRESSES: Send or deliver written comments to Wade Plunkett, Principal Deputy Ethics Official, Office of the General Counsel, Office of Personnel Management, Room 7532, 1900 E St., NW., Washington, DC 20415, FAX: 202-606-0082 or e-mail them to wmplunke@opm.gov.

FOR FURTHER INFORMATION CONTACT: Wade Plunkett, by telephone at 202-606-1700; by FAX at 202-606-0082; or by e-mail at wmplunke@opm.gov.

SUPPLEMENTARY INFORMATION: OPM is revising part 1001, which deals with OPM employee responsibilities and conduct, as part of a larger review of OPM regulations for plain language purposes. The purpose of this revision to part 1001 is not to make substantive changes, but rather to make part 1001 more readable. The proposed regulations have been converted to a question-and-answer format and we have made minor changes to the wording to enhance clarity.

Regulatory Flexibility Act

I certify that these regulations will not have a significant economic impact on a substantial number of small entities because they will affect only Federal employees.

E.O. 12866, Regulatory Review

This rule has been reviewed by the Office of Management and Budget in accordance with E.O. 12866.

List of Subjects in 5 CFR Part 1001

Conflicts of Interest.

Office of Personnel Management.
Kay Coles James,
Director.

Accordingly, OPM proposes to revise part 1001 as follows:

Subchapter C—Regulations Governing Employees of the Office of Personnel Management

PART 1001—OPM EMPLOYEE RESPONSIBILITIES AND CONDUCT

Sec.
1001.101 In addition to this part, what other rules of conduct apply to Office of Personnel Management employees?
1001.102 What are the Privacy Act rules of conduct?

Authority: 5 U.S.C. 552a, 7301.

§ 1001.101 In addition to this part, what other rules of conduct apply to Office of Personnel Management employees?

In addition to the regulations contained in this part, employees of the Office of Personnel Management (OPM) should refer to:

(a) The Executive Branch Financial Disclosure, Qualified Trusts, and Certificates of Divestiture regulations at 5 CFR part 2634;

(b) The Standards of Ethical Conduct for Employees of the Executive Branch at 5 CFR part 2635;

(c) The Limitations on Outside Earned Income, Employment and Affiliations for Certain Noncareer Employees regulations at 5 CFR part 2636;

(d) Regulations Concerning Post Employment Conflict of Interest at 5 CFR part 2637;

(e) Post-employment Conflict of Interest Restrictions regulations at 5 CFR part 2641;

(f) The OPM regulations at 5 CFR part 4501, which supplement the executive branch-wide standards;

(g) The Employee Responsibilities and Conduct regulations at 5 CFR part 735;

(h) The restrictions upon use of political referrals in employment matters at 5 U.S.C. 3303.

§ 1001.102 What are the Privacy Act rules of conduct?

(a) An employee shall avoid any action that results in the appearance of using public office to collect or gain access to personal data about individuals beyond that required by or authorized for the performance of assigned duties.

(b) An employee shall not use any personal data about individuals for any purpose other than as is required and authorized in the performance of assigned duties. An employee shall not disclose any such information to other agencies or persons not expressly authorized to receive or have access to such information. An employee shall make any authorized disclosures in accordance with established regulations and procedures.

(c) Each employee who has access to or is engaged in any way in the handling of information subject to the Privacy Act, 5 U.S.C. 552a, shall be familiar with the regulations of this subsection as well as the pertinent provisions of the Privacy Act relating to the treatment of such information.

[FR Doc. 02-29439 Filed 11-19-02; 8:45 am]

BILLING CODE 6325-48-P